DEPARTMENT OF ENERGY

Federal Energy Regulatory Commission

[Docket No. RP01-227-000]

Natural Gas Pipeline Company of America; Notice of Proposed Changes in FERC Gas Tariff

February 12, 2001.

Take notice that on February 8, 2001, Natural Gas Pipeline Company of America (Natural) tendered for filing to be part of its FERC Gas Tariff, Sixth Revised Volume No. 1, certain tariff sheets listed on Appendix A to the filing, to be effective March 12, 2001.

Natural states that the purpose of this filing is to revise Rate Schedule FRSS, so that customers can elect a “storage-only” option in lieu of a delivered storage service. Customers can then use separately contracted transportation (including released capacity) for deliveries of gas withdrawn from storage. Deliveries to the city-gate or to an end-use facility may still be made on a firm no-notice basis, provided the Shipper meets the requirements in the new Section 7.5(b) Rate Schedule FRSS.

Natural states that copies of the filing have been mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

Linwood A. Watson, Jr.,
Acting Secretary.

[FR Doc. 01-3910 Filed 2-15-01; 8:45 am]

BILLING CODE 6717-01-M